INTERNATIONAL TRADE COMMISSION

[Investigation No. 337-TA-704]

In the Matter of Certain Mobile Communications and Computer Devices and Components Thereof; Notice of Commission Determination Not To Review an Initial Determination Terminating the Investigation in Its Entirety on the Basis of a Settlement Agreement; Termination of Investigation

AGENCY: U.S. International Trade Commission.

ACTION: Notice.

SUMMARY: Notice is hereby given that the U.S. International Trade Commission has determined not to review the presiding administrative law judge's (“ALJ”) initial determination (“ID”) (Order No. 73) granting a joint motion by complainant Apple Inc., f/k/a Apple Computer, Inc. of Cupertino, California (“Apple”) and respondents Nokia Corporation of Espoo, Finland and Nokia Inc. of White Plains, New York (collectively “Nokia”) to terminate in its entirety Inv. No. 337-TA-704, Certain Mobile Communications and Computer Devices and Components Thereof based on a settlement agreement.

FOR FURTHER INFORMATION CONTACT: Megan M. Valentine, Office of the General Counsel, U.S. International Trade Commission, 500 E Street, SW., Washington, DC 20436, telephone (202) 708-2301. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on February 24, 2010, based on a complaint filed by Apple. 75 FR 8399-400. The complaint, as amended and supplemented, alleges violations of Section 337 of the Tariff Act of 1930, as amended, 19 U.S.C. 1337, in the importation into the United States, the sale for importation, and the sale within the United States after importation of certain mobile communications and computer devices and components thereof by reason of infringement of certain claims of U.S. Patent Nos. 5,379,431; 5,455,599; 5,519,867; 5,915,131; 5,920,726; 5,969,705; 6,343,263; 6,424,354; and RE39,486. The complaint further alleges the existence of a domestic industry. The Commission's notice of investigation named Nokia as respondent.

On June 16, 2011, Apple and Nokia jointly moved to terminate this investigation in its entirety in view of a settlement agreement and a license agreement between the parties. On June 17, 2011, the Commission Investigative attorney filed a response in support of the motion.

On June 24, 2011, the ALJ issued the subject ID, granting pursuant to Commission Rule 210.21(b) (19 CFR 210.21(b)) the joint motion to terminate the investigation in its entirety. No petitions for review were filed.

The Commission has determined not to review the ID.

The authority for the Commission's determination is contained in section 337 of the Tariff Act of 1930, as amended (19 U.S.C. 1337), and in section 210.42 of the Commission's Rules of Practice and Procedure (19 CFR 210.42).

By order of the Commission.
Issued: July 11, 2011.
James R. Holbein,
Secretary to the Commission.

[FR Doc. 2011-17699 Filed 7-13-11; 8:45 am]

BILLING CODE 7020-02-P